DEPARTMENT OF THE INTERIOR

Bureau of Land Management

[LLNMF010000 L14300000.FP0000 14X]

Notice of Realty Action: Classification for Lease and Subsequent Conveyance for Recreation and Public Purposes in San Juan County, NM

AGENCY: Bureau of Land Management, Interior.

ACTION: Notice of realty action.

SUMMARY: The Bureau of Land Management (BLM) has examined and found suitable for classification for lease and subsequent conveyance under the provisions of the Recreation and Public Purposes (R&PP) Act, as amended, approximately 5 acres of public land in San Juan County, New Mexico. The San Juan County Soil and Water Conservation District proposes to use the land for an office building, shop, parking, and outdoor educational classroom.

DATES: Interested parties may submit written comments regarding the proposed classification of the land, or lease and/or subsequent conveyance of the land, on or before November 10, 2014.

ADDRESSES: Written comments concerning this Notice should be addressed to: District Manager, BLM Farmington District Office, 6251 College Avenue, Farmington, NM 87401.

FOR FURTHER INFORMATION CONTACT: Vera Matthews, Realty Specialist, at the above address, by phone (505) 564-7724, or by email at vmatthew@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The following public land in San Juan County, New Mexico, has been examined and found suitable for classification, for lease and/or subsequent conveyance, to the San Juan County Soil and Water Conservation District under the provisions of the R&PP Act, as amended (43 U.S.C. 869 et seq.):

New Mexico Principal Meridian

T. 30 N., R. 11 W.,

Sec. 5, W½NW¼SE¼SW¼. Containing 5 acres, more or less.

In accordance with the R&PP Act, the San Juan County Soil and Water District proposes to use the land for an office building, shop, parking and outdoor educational classroom. Additional detailed information pertaining to this application, plan of development, and site plans are contained in case file NMNM 127315 located in the BLM Farmington District Office at the above address. The above-described land is not needed for any Federal purpose. The lease and/or subsequent conveyance of the land to the San Juan County Soil and Water District, are consistent with the BLM Farmington Resource Management Plan, dated December 2003, and would be in the public's interest. The San Juan County Soil and Water District has not applied for more than the 640-acre annual limitation for public purposes other than recreation use and has submitted a statement in compliance with the regulation at 43 CFR 2741.4(b). The San Juan County Soil and Water District is a political subdivision of the State of New Mexico and is a qualified applicant under the R&PP Act.

The lease and subsequent conveyance, if and when issued, will be subject to the provisions of the R&PP Act and applicable regulations of the Secretary of the Interior and will contain the following reservations to the United States:

1. Provisions of the R&PP Act and to all applicable regulations of the Secretary of the Interior, including, but not limited to, the terms required by 43 CFR 2741.9.

2. A right-of-way for ditches and canals constructed by the authority of the United States, Act of August 30, 1890 (43 U.S.C. 945).

3. Lease and subsequent conveyance of the public land shall be subject to valid existing rights.

4. All minerals shall be reserved to the United States, together with the right to prospect for, mine, and remove such deposits from the same under applicable law and such regulations as the Secretary of the Interior may prescribe.

5. Right-of-way NMNM 111684 for road purposes granted to David McWilliams and Peggy McWilliams, their successors or assigns, pursuant to the Act of October 21, 1976 (43 U.S.C. 1761).

6. Right-of-way NMNM 125883 for fiber optic cable purposes granted to Qwest Corporation, its successors or assigns, pursuant to the Act of October 21, 1976 (43 U.S.C. 1761).

7. Right-of-way NMNM 015515 for oil and gas pipelines purposes granted to Enterprise Field Services, its successors or assigns, pursuant to the Act of February 25, 1920 (30 U.S.C. 185 sec. 28).

8. Oil and Gas Lease NMSF 078138 leased to Burlington Resources Oil and Gas Company, its successors or assigns, pursuant to the Act of February 25, 1920 (30 U.S.C. 226).

9. An appropriate indemnification clause protecting the United States from claims arising out of the lessee's/patentee's use, occupancy, or operations on the leased/patented lands. It will also contain any other terms and conditions deemed necessary and appropriate by the Authorized Officer.

10. Any other reservations that the Authorized Officer determines appropriate to ensure public access and proper management of Federal land and interests therein.

Subject to limitations prescribed by law and regulations, prior to conveyance, a holder of any right-of-way within the lease area may be given the opportunity to amend the right-of-way for conversion to a new term, including perpetuity, if applicable.

Detailed information concerning this proposed project, including, but not limited to documentation relating to compliance with applicable environmental and cultural resource laws, is available for review at the BLM Farmington District Office at the address above.

Upon publication of this notice in the Federal Register, the land described above will be segregated from all other forms of appropriation under the public land laws, including the general mining laws, except for lease and/or subsequent conveyance under the R&PP Act, leasing under the mineral leasing laws and disposal under the mineral material disposal laws.

Classification Comments: Interested parties may submit comments on the suitability of the land for the proposed facility. Comments on the classification are restricted to whether the land is physically suited for the proposal, whether the use will maximize the future use or uses of the land, whether the use is consistent with local planning and zoning, or if the use is consistent with State and Federal programs.

Application Comments: Interested parties may submit comments regarding the specific use proposed in the application and plan of development, and whether the BLM followed proper administrative procedures in reaching the decision, to lease and/or convey under the R&PP Act.

Before including your address, phone number, email address, or other personal identifying information in your comment, you should be aware that your entire comment including your personal identifying information may be made publicly available at any time. While you can ask us in your comment to withhold your personal identifying information from public review, we cannot guarantee that we will be able to do so.

Any adverse comments will be reviewed by the BLM New Mexico State Director, who may sustain, vacate, or modify this realty action. In the absence of any adverse comments, the classification of the land described in this notice will become effective on November 24, 2014. The land will not be available for lease and subsequent conveyance until after the classification becomes effective.

Authority: 43 CFR 2741.5.

Debby Lucero,
Acting Deputy State Director, Lands and Resources.

[FR Doc. 2014-22734 Filed 9-23-14; 8:45 am]

BILLING CODE 4310-FB-P